DEPARTMENT OF DEFENSE

Office of the Secretary

[Docket ID: DoD-2015-OS-0029]

Privacy Act of 1974; System of Records

AGENCY: Office of the Secretary of Defense, DoD.

ACTION: Notice to alter a System of Records.

SUMMARY: The Office of the Secretary of Defense proposes to alter a system of records, DPR 30 DoD, entitled “Department of Defense Readiness Reporting System (DRRS) Records” in its inventory of record systems subject to the Privacy Act of 1974, as amended.

The Defense Readiness Reporting System (DRRS) provides the means to manage and report the readiness of the Department of Defense and its subordinate Components to execute the National Military Strategy as assigned by the Secretary of Defense in the Defense Planning Guidance, Contingency Planning Guidance, Theater Security Cooperation Guidance, and the Unified Command Plan. DRRS builds upon the processes and readiness assessment tools used in the Department of Defense to establish a capabilities-based, adaptive, near real-time readiness reporting system.

All DoD components will use the DRRS information to identify critical readiness deficiencies, develop strategies for rectifying these deficiencies, and ensure they are addressed in appropriate program/budget planning or other DoD management systems. DRRS will permit commanders to obtain pertinent readiness data on personnel assigned/attached to their units.”

DATES: Comments will be accepted on or before May 11, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT section or at the Defense Privacy and Civil Liberties Division Web site at http://dpcld.defense.gov/.

The proposed system report, as required by U.S.C. 552a(r) of the Privacy Act of 1974, as amended, was submitted on April 1, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2015.
Aaron Siegel,
Alternate OSD Federal Register Liaison Officer, Department of Defense.

DPR 30 DoD

System name:

Department of Defense Readiness Reporting System (DRRS) Records (March 18, 2010, 75 FR 13091).

* * * * *

Changes:

System location:

Delete entry and replace with “Defense Readiness Reporting System Implementation Office, Office of the Secretary of Defense, Office of the Under Secretary of Defense for Personnel and Readiness, 4800 Mark Center Drive, Alexandria, VA 22350-1400.”

Categories of individuals covered by the system:

Delete entry and replace with “All active duty, National Guard, and Reserve military service members of the Air Force, Navy, Army, and Marine Corps, including DoD Civilian Expeditionary Workforce personnel.”

Categories of records in the system:

Delete entry and replace with “Name, date of birth, gender, Social Security Number (SSN), rank/grade, duty status, skill specialty, deployability, related reason codes for readiness posture, unit of assignment, security clearance, occupational skill codes, and linguistic capabilities.”

Authority for maintenance of the system:

Delete entry and replace with “10 U.S.C. 117, Readiness Reporting System: Establishment; Reporting to Congressional Committees; 10 U.S.C. 113, Secretary of Defense; DoD Directive 5149.02, Senior Readiness Oversight Council (SROC); DoD Directive 7730.65, Department of Defense Readiness Reporting System (DRRS); and E.O. 9397 (SSN), as amended.”

Purpose(s):

Delete entry and replace with “The Defense Readiness Reporting System (DRRS) provides the means to manage and report the readiness of the Department of Defense and its subordinate Components to execute the National Military Strategy as assigned by the Secretary of Defense in the Defense Planning Guidance, Contingency Planning Guidance, Theater Security Cooperation Guidance, and the Unified Command Plan. DRRS builds upon the processes and readiness assessment tools used in the Department of Defense to establish a capabilities-based, adaptive, near real-time readiness reporting system.

All DoD components will use the DRRS information to identify critical readiness deficiencies, develop strategies for rectifying these deficiencies, and ensure they are addressed in appropriate program/budget planning or other DoD management systems. DRRS will permit commanders to obtain pertinent readiness data on personnel assigned/attached to their units.”

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 5 U.S.C. 552a(b)(3) as follows:

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use:

Disclosure from a system of records maintained by a DoD Component may be made to a congressional office from the record of an individual in response to an inquiry from the congressional office made at the request of that individual.

Disclosure to the Department of Justice for Litigation Routine Use:

A record from a system of records maintained by a DoD Component may be disclosed as a routine use to any component of the Department of Justice for the purpose of representing the Department of Defense, or any officer, employee or member of the Department in pending or potential litigation to which the record is pertinent.

Disclosure of Information to the National Archives and Records Administration Routine Use:

A record from a system of records maintained by a DoD Component may be disclosed as a routine use to the National Archives and Records Administration for the purpose of records management inspections conducted under authority of 44 U.S.C. 2904 and 2906.

Data Breach Remediation Purposes Routine Use:

A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

The DoD Blanket Routine Uses set forth at the beginning of the Office of the Secretary, DoD/Joint Staff compilation of systems of records notices may apply to this system. The complete list of DoD blanket routine uses can be found at: http://dpcld.defense.gov/Privacy/SORNsIndex/BlanketRoutineUses.aspx

* * * * *

Retrievability:

Delete entry and replace with “Individual's name, unit of assignment, occupational skill codes, and linguistic capabilities.”

Safeguards:

Delete entry and replace with “Access is limited to authorized and appropriately cleared personnel as determined by the system manager. Access is limited to person(s) responsible for servicing the record in performance of their official duties, which are properly screened and cleared for need-to-know. System users cannot view Social Security Numbers (SSN). Records are maintained in a controlled facility. Physical entry is restricted by use of identification badges, cipher locks, combination locks, security guards, and is accessible only to authorized or cleared personnel. All data is protected in accordance with appropriate procedures and processes and is further protected with additional encryption. Technical controls include passwords, intrusion detection system (IDS), encryption, firewall, virtual private network (VPN), and DoD Public Key Infrastructure Certificates. Administrative controls include periodic security audits, regular monitoring of users' security practices, methods to ensure only authorized personnel access to PII, encryption of backups containing sensitive data, backups are secured off-site.”

* * * * *

System manager(s) and address:

Delete entry and replace with “Director, Defense Readiness Reporting System Implementation Office, Office of the Secretary of Defense, Office of the Under Secretary of Defense for Personnel and Readiness, 4800 Mark Center Drive, Alexandria, VA 22350-1400.”

Notification procedure:

Delete entry and replace with “Individuals seeking to determine whether information about themselves is contained in this system should address written inquiries to the local commander. For a complete list of mailing addresses, contact the system manager.

Signed, written requests should include individual's full name and unit.”

Record access procedures:

Delete entry and replace with “Individuals seeking access to information about themselves contained in this system should address written inquiries to the Office of the Secretary of Defense/Joint Staff Freedom of Information Act Requester Service Center, 1155 Defense Pentagon, Washington, DC 20301-1155.

Signed, written requests should include the individual's full name and unit, and the name and number of this system of records notice.”

* * * * *

Record source categories:

Delete entry and replace with “Information is obtained from the Enlisted Personnel Management Information System (EPMIS), Officer Personnel Management Information System (OPMIS), Marine Corps Total Force System (MCTFS), Medical Readiness Reporting System (MRRS), Military Personnel Data System, Medical Readiness Reporting System—Marine, Medical Readiness Reporting System—Navy, Defense Manpower Data System, Defense Readiness Reporting System Army, Defense Readiness Reporting System Marine Corps, Defense Readiness Reporting System Navy, Global Combat Support System Air Force, Manpower Programming and Execution System, Aeromedical Services Information Management System, Aerospace Expeditionary Force Reporting Tool, Electronic Joint Manpower and Personnel System, Medical Protection System, Military Personnel and Accounting System, Navy Readiness Reporting Enterprise, Defense Civilian Personnel Data System, Global Force Management Navy Org Server, Integrated Total Army Personnel Database, Global Status of Resources and Training System, Joint Training Information Management System, Aviation Resource Management System, Operational Data Store Enterprise/Marine Corps total Force System.”

* * * * *

[FR Doc. 2015-08170 Filed 4-9-15; 8:45 am]

BILLING CODE 5001-06-P